DEPARTMENT OF THE INTERIOR

Bureau of Land Management

[NV-040-04-5101-ER-F345; N-78803]

Notice of Intent To Prepare an Environmental Impact Statement (EIS) and Initiate the Public Scoping Process

AGENCY: Bureau of Land Management, Interior.

SUMMARY: Notice is hereby given that the Bureau of Land Management (BLM), Ely Field Office, will be directing the preparation of an EIS and conducting public scoping meetings for the proposed Clark, Lincoln and White Pine Counties Groundwater Development Project.

DATES: The scoping comment period will commence with the publication of this notice and will end 60 days after its publication. Comments on the scope of the EIS, including concerns, issues, or proposed alternatives that should be considered in the EIS should be submitted in writing to the address below and will be accepted throughout the scoping period. This scoping notice will be distributed by mail on or about the date of this notice. All public meetings will be announced through the local news media, newsletters, and the BLM Web site at http://nv.blm.gov.

ADDRESSES: Please mail written comments to the BLM, Ely Field Office, HC 33 Box 33500, Ely, Nevada 89301, (fax (775) 289-1910). Comments submitted during this EIS process, including names and street addresses of respondents will be available for public review at the Ely Field Office during regular business hours 7:30 a.m. to 4:30 p.m., Monday through Friday, except holidays. Individual respondents may request confidentiality. If you wish to withhold your name and address from public review or disclosure under the Freedom of Information Act, you must state this prominently at the beginning of your comments. Such requests will be honored to the extent allowed by law. All submissions from organizations or businesses, and from individuals identifying themselves as representatives or officials of organizations or businesses, will be made available for public inspection in their entirety.

FOR FURTHER INFORMATION CONTACT: For further information or to have your name added to the EIS mailing list, contact Bruce Flinn at the Ely Field Office (see address above), telephone (775) 289-1903.

SUPPLEMENTARY INFORMATION: The proposed Clark, Lincoln and White Pine Counties Groundwater Development Project is proposed by the Southern Nevada Water Authority and would be located in central and eastern Nevada, in Clark, Lincoln and White Pine Counties. The proposed project would develop and convey groundwater rights as they are permitted by the Nevada Division of Water Resources to the Southern Nevada Water Authority (SNWA) in Coyote Spring, Tikaboo North, Delamar, Dry Lake, Cave, Spring, and Snake Valleys. The volume of water to be transported through the proposed facilities could range between approximately 125,000 and 200,000 acre-feet per year.

The proposed facilities include groundwater production wells, water pipelines, pumping stations, and water treatment, power, and other appurtenant facilities. The facilities would be generally located within and/or across the following public lands:

Mt. Diablo Meridian (MDM):

Cave Valley—Townships 5-9 North and Ranges 63-64 East, various sections

Coyote Spring Valley—Townships 9-15 South and Ranges 62-63 East, various sections

Delamar Valley—Townships 4-8 South and Ranges 62-64 East, various sections

Dry Lake Valley—Townships 1-4 South, Townships 1-7 North and Ranges 63-65 East, various sections

Garnet Valley—Townships 17-18 South and Range 63 East, various sections

Hamlin—Township 9 North and Range 69 East, various sections

Hidden Valley (north)—Townships 15-17 South and Range 63 East, various sections

Lake Valley—Townships 6-7 North and Ranges 65-67 East, various sections

Las Vegas Valley—Township19 South and Ranges 62-63 East, various sections

Pahranagat Valley—Townships 4-6, 8 and 9 South and Ranges 59-63 East, various sections

Snake Valley—Townships 9-10 North and Ranges 69-70 East, various sections

Spring Valley—Townships 7-16 North, and Ranges 65-68 East, various sections

Tikaboo Valley North—Townships 6-7 South, Ranges 58-59 East, various sections

Steptoe Valley (power line)—Townships 14-17 North, Ranges 64-65 East, various sections

A map of the proposed project is available for viewing at the Bureau of Land Management, Ely Field Office, 702 North Industrial Way, Ely, NV 89301.

Dated: February 2, 2005.
Gene A. Kolkman,
Ely Field Manager.

[FR Doc. 05-7104 Filed 4-7-05; 8:45 am]

BILLING CODE 4310-NV-P